DEPARTMENT OF AGRICULTURE

Forest Service

Transfer of Administrative Jurisdiction: Hawthorne Army Depot New Bomb Project Interchange, Toiyabe National Forest, Nevada

AGENCY: Forest Service, USDA.

ACTION: Notice of land interchange.

SUMMARY: On December 23, 1999, the agency published a notice of the Hawthorne Army Depot New Bomb Project Interchange, which became effective on that date (64 FR 72067). That original notice did not include a copy of the joint interchange order; therefore, the Forest Service is publishing it as part of this notice.

DATES: The Hawthorne Army Depot New Bomb Project Interchange was effective on December 23, 1999.

FOR FURTHER INFORMATION CONTACT: David M. Sherman, Lands Staff, Forest Service, telephone (202) 205-1362.

SUPPLEMENTARY INFORMATION: On September 15, 1999, and November 4, 1999, the Secretary of the Army and the Secretary of Agriculture, respectively, signed a joint interchange order authorizing the transfer of administrative jurisdiction of approximately 3,183 acres, more or less, lying within the Toiyabe National Forest, Mineral County, Nevada, from the Department of Agriculture to the Department of the Army. Furthermore, the order transfers from the Department of the Army to the Department of Agriculture approximately 488 acres, more or less, lying adjacent to the exterior boundaries of the Los Padres National Forest, Monterey County, California, for inclusion in the Los Padres National Forest. The 45-day Congressional oversight requirement of the Act of July 26, 1956 (70 Stat. 656; 16 U.S.C. 505a, 505b) has been met.

Dated: May 6, 2001.
James R. Furnish,
Deputy Chief, National Forest Systems.

Hawthorne Army Depot, New Bomb Project Nevada and California

Joint Order Interchanging Administrative Jurisdiction of Department of the Army Lands and National Forest System Lands

By virtue of the authority vested in the Secretary of the Army and in the Secretary of Agriculture by the Act of July 26, 1956 (70 Stat. 656; 16 U.S.C. 505a, 505b), it is ordered as follows:

(1) The lands under the jurisdiction of the Department of the Army described in Exhibit A-1 and shown on Exhibit A, (maps are on file and available for public inspection in the office of the Chief, USDA Forest Service, Washington, DC), attached hereto and made a part hereof, which lands lie within or adjacent to the exterior boundaries of the Los Padres National Forest, California, are hereby transferred from the Secretary of the Army to the Secretary of Agriculture, subject to outstanding rights or interest of record.

(2) The lands under the jurisdiction of the USDA Forest Service described in Exhibit B-1 and shown on Exhibit B, (maps are on file and available for public inspection in the office of the Chief, USDA Forest Service, Washington, DC), attached hereto and made a part hereof, which are a part of the Toiyabe National Forest, Nevada, are hereby transferred from the jurisdiction of the Secretary of Agriculture to the Secretary of the Army, subject to outstanding rights or interests of record.

(3) Pursuant to section 2 of the aforesaid Act of 26 July 1956, the National Forest System lands transferred to the Secretary of the Army by this order are hereby subject only to the laws applicable to the Department of the Army lands comprising the Hawthorne Army Depot. The Department of the Army lands transferred to the Secretary of Agriculture by this order are hereby subject to the laws applicable to lands acquired under the Act of 1 March 1911 (36 Stat. 961), as amended.

(4) Any environmental liability created by Department of the Army's use associated with the lands described in Exhibits A-1 & B-1 shall be the Department of the Army's sole judicial and financial responsibility as provided for the Memorandum of Understanding entered into by the Forest Service and the Department of Agriculture (Exhibit C). In the event the Forest Service encounters any “Hazardous Material” contamination on the lands, as that term is defined in Exhibit C, that are a result of Department of the Army's occupancy, the Forest Service will immediately notify the Department of the Army in writing. Any judicial or financial responsibilities, including but not limited to the cleanup of Hazardous Materials, with the exception of acts of negligence on the part of the Forest Service, will be borne by the Department of the Army.

This order will be effective as of the date of publication in the Federal Register.

Dated: September 19, 1999.

Louis Caldera,

Secretary of the Army.

Dated: November 4, 1999.

Dan Glickman,

Secretary of Agriculture.

[FR Doc. 01-9107 Filed 4-11-01; 8:45 am]

BILLING CODE 3410-11-M